DEPARTMENT OF AGRICULTURE

Office of the Secretary

Members of Performance Review Boards

AGENCY: Office of the Secretary, USDA.

ACTION: Notice.

SUMMARY: This notice announces the appointment of members of the Performance Review Boards (PRBs) for the U.S. Department of Agriculture (USDA). The USDA PRBs ensure meaningful distinctions in performance as they review Senior Executive Service (SES) performance appraisals and make recommendations to the Secretary of Agriculture regarding final performance ratings, performance awards, salary, and Presidential Rank Awards for SES members.

DATES: Effective: December 2, 2005.

FOR FURTHER INFORMATION CONTACT: Barbara Holland, Office of Planning, Coordination and Executive Resources Staff, U.S. Department of Agriculture, 1400 Independence Avenue, SW., Washington, DC 20250, (202) 720-2101.

SUPPLEMENTARY INFORMATION: The publication of PRB membership is required by Section 4314(c)(4) of Title 5, U.S.C. The following membership list represents a standing register, from which specific PRB's will be constituted.

Aldaya, George W.

Allen, Lindsay H.

Allen, Lynn

Allen, Richard D.

Alsop, James C.

Anderson, Curtis M.

Anderson, Byron E.

Arnette, Donald E.

Ashworth, Warren R.

Bails, Constance T.

Bange, Gerald A.

Barnes, Darlene L.

Bartuska, Ann M.

Bartz, Merlin E.

Bass, Robert T.

Basu, Arun C.

Bech, Rebecca A.

Betschart, Antoinette A.

Bianchi, Ronald F.

Blackburn, Wilbert H.

Billet, Courtney R.

Blum, J. Lawrence

Bohman, Mary E.

Bosecker, Raymond R.

Bost, Eric M.

Bosworth, Dale N.

Boteler, Franklin E.

Braasch, Sara J.

Bradley, James

Brady, Terence M.

Braley, George A.

Brennan, Deborah L.

Brenner, Richard J.

Brewer, John G.

Brouha, Paul

Brown, Charles S.

Brown, J. Kevin

Bryant, Arthur Ray

Bschor, Dennis E.

Bumbary-Langston, Inga P.

Butler, James G.

Butler, Larry D.

Buxton, Dwayne R.

Cables, Rick D.

Carey, Priscilla B.

Carlson, Merlyn E.

Carpenter, Barry L.

Carter, Clarence H.

Chadwick, Kristine M.

Chambliss, Mary T.

Chandler, Laurence D.

Cherry, John P.

Christensen, Steven N.

Christensen, Thomas W.

Cielo, Angel B.

Clark, Lawrence E.

Clay, William H.

Clayton, Kenneth C.

Cleaves, David A.

Clifford, John R.

Coale, Dana Hamilton

Cohen, Kenneth E.

Cole, Darrell F.

Coler, Katherine Anne

Collins, Keith J.

Collins, Sarah D.

Collins, Wanda W.

Conklin, Neilson C.

Connaughton, Kent P.

Connelly, Steven A.

Conner, Charles F.

Conway, Roger K.

Conway, Thomas

Cooksie, Carolyn B.

Coombe, Richard I.

Cooper, George E.

Coppedge, James R.

Cunningham, Gary L.

Dantzler, Marshall L.

Davidson Jr., Ross J.

Davis, Russell T.

Day, Lloyd C.

Deberry, Drew A.

Dehaven, William R.

Derfler, Philip S.

Diaz-Soltero, Hilda

Dick, Jere L.

Diez, Jose R.

Dorr, Thomas C.

Dubey, Anne M.

Dunkle, Richard L.

Earnest, Darryl W.

Eav, Bov Bang

Ebaugh, Mary L.

Eggert, Paul R.

Elias, Thomas S.

Ellis, Karen L.

Engeljohn, Daniel L.

Epstein, Robert L.

Estill, Elizabeth

Evans, Marlane T.

Farrish, Hubert O.

Fiala, Patricia K.

Fong, Phyllis K.

Forsgren II, Harvey L.

Frago, Douglas W.

Frost, Alberta C.

Gaibler, Floyd D.

Garbarino, Joseph S.

Gause, Kathleen M.

Gelburd, Diane E.

Gipsman, Jack

Gipson, Chester A.

Gleason, Jackie Jay

Golden, Micheal L.

Golden, John

Gomez, Christopher A.

Gonzalez, Gilbert

Goodman, Linda D.

Gordh, Gordon

Grahn, David P.

Granger, Larry M.

Gray, David R.

Green, Alan S.

Gregoire, Michael C.

Gugulis, Katherine C.

Guldin, Richard W.

Gutierrez, Gloria

Haggstrom, Glenn D.

Hagy III, William F.

Hamer Jr., Hubert

Hammond, Andrew C.

Hanan, Tamara L.

Hannah, Thomas E.

Hanuschak, George A.

Harbour Jr., Thomas C.

Hawk, Gilbert R.

Hawks, William

Hazuda, Mark J.

Healy, Patricia E.

Hefferan, Colien J.

Hentges, Eric J.

Hewings, Adrianna D.

Hicks, Ronald F.

Hill, Richard E.

Hill, Ronald W.

Hinton-Henry, Annie S.

Hobbie, Mary K.

Hobbs, Alma C.

Hoffeller, Thomas B.

Hohenstein, William G.

Holden, Ollice C.

Holladay, Jon M.

Holman, Pred Dwight

Holtrop, Joel D.

Hood, Rodney E.

Hooper, Ronald E.

House, James E.

House, Carol C.

Hudnall Jr., William J.

Jackson, Ruthie F.

Jackson, Vicki A.

Jackson, Yvette S.

Jacobson, Julie A.

James, William O.

Jen, Joseph

Jennings, Allen L.

Jett, Carole E.

Johnsen, Peter B.

Johnson, Allan R.

Johnson, John A.

Johnson, Elizabeth K.

Johnson, Phyllis E.

Jordan, Leonard

Jordan, John P.

Kaiser, Janette S.

Kaplan, David T.

Kaplan, Dennis L.

Kappes, Steven M.

Kashdan, Hank

Keeney, Robert C.

Kelly, James Michael

Kimbell, Abigail R.

King, Jesse L.

King Jr., Edgar G.

Knight, Bruce I.

Knipling, Edward B.

Koohmaraie, Mohammad

Korcak, Ronald F.

Kugler, Daniel E.

Kuhn, Betsey A.

Lambert, Charles D.

Lancaster, Arlen L.

Lange, Loren D.

Lapoint, Tracy A.

Lawrence, Douglas J.

Leaman, Samuel R.

Leland, Arlean

Levings, Randall

Lewis, David N.

Lilja, Janice Grassmuck

Linden, Ralph A.

Lindsay, Jerome A.

Little, James R.

Lohfink, Cyrus G.

Ludwig, William E.

Lugo, Ariel E.

Maczka, Carol A.

Maloney, Kathryn P.

Mangold, Robert D.

Mann, Curt J.

Manning, Gloria

Maresch, Wayne M.

Marlow, Ronald L.

Martinez, Wilda H.

Masters, Barbara J.

Maupin, Gary T.

Mazie, Sara M.

McCaskey, Patrick C.

McClanahan, Melinda L.

McPhail-Gray, Mary

Mendoza Jr., Martin

Messmore, Karen

Mezainis, Valdis E.

Miller, W. Kirk

Millet, Thomas W.

Milton Jr., William P.

Moore, Dale W.

Moore, Randy

Moore, Terri M.

Morgan, Andrea M.

Morgan, Gary J.

Morris, Craig A.

Munno, Joanne L.

Murrin, Suzanne M.

Myers, Jaqueline

Myers Jr., Charles L.

Narang, Sudhir K.

Nealon, John Patrick

Neruda, Michael E.

Newby, James

Newman, Corbin L.

Ng, Allen

Niedermayer, Chris S.

Norbury, Frederick L.

O'Connor, Thomas J.

Offutt, Susan E.

Onstad, Charles A.

Orr, David M.

Otto, Ralph A.

Palmisano, Anna

Parham, Gregory L.

Parker, Vernon B.

Patton-Mallory, Marcia

Payne, Larry R.

Penn, J.B.

Petersen, Kenneth E.

Pierson, Merle D.

Poling, Janet A.

Prucha, John C.

Puckett, William E.

Purcell, Roberta D.

Pyron, Christopher L.

Quick, Bryce R.

Quigley, Thomas M.

Rains, Michael T.

Raymond, Richard A.

Reaves, Jimmy L.

Reed, Craig A.

Reifschneider, Donna L.

Reilly, Joseph T.

Rexroad Jr., Caird E.

Rey, Mark E.

Riemenschneider, Robert A.

Riggins, Judith W.

Risbrudt, Christopher D.

Roberts, Richard K.

Robinson, Barbara C.

Romero, Annabelle

Roth, Jane E.

Roussopoulos, Peter J.

Rouzer, David C.

Rundle, Kathleen A.

Salazar, Roberto

Santiago, Perfecto R.

Scarbrough, Frank

Schaub, James D.

Sedell, James R.

Seiber, James N.

Sexton, Thomas J.

Shafer, Steven R.

Shahin, Jessica H.

Sharp, Audrey Diane

Shea, Anthony Kevin

Sheikh, Patricia R.

Shelton, Stuart L.

Shere, Jack A.

Shipman, David R.

Silverman, Steven C.

Smith, Katherine R.

Smith, Cynthia J.

Smith, Gregory C.

Smith Jr., William C.

Snow, Wendy E.

Sommers, Michael J.

Spence, Joseph

St. John, Judith B.

Steele, W. Scott

Stokes, E. Vaughn

Stouder, Deanna J.

Stuck, Karen D.

Surina, John C.

Swacina, Linda

Swenson, Richard D.

Taitano, Dennis J.

Tanner, Steven N.

Taylor Jr., Clifton J.

Tenny, David P.

Terpstra, A. Ellen

Thiermann, Alejandro B.

Thomas, Peter Jon

Thomas, Irving W.

Thomas, Peter Jon

Thompson, Clyde

Thompson, Robin L.

Troyer, Jack G.

True, Sadhna G.

Underwood Jr., Marvin M.

Vail, Kenneth H.

Villano, David J.

Vogel, Ronald J.

Wachs, Lawrence

Wallace, Charles L.

Walsh, Thomas E.

Walton, Thomas M.

Waterfield, Joann

Weingardt, Bernard

White, John S.

Whitmore, Charles

Whung, Pai Yei

Williams, Jerry E.

Williams, John W.

Witt, Timothy Blaine

Wiyatt, Steven D.

Woods, Mark R.

Worthington, Ruth M.

Yonts-Shepard, Susan E.

York, Dana D.

Yost, Michael W.

Young, Michael Lee

Young, Peter

Young Jr., Robert W.

Zimmerman, Anne J.

Zorn, Frances E.

Dated: November 4, 2005.
Mike Johanns,
Secretary.

[FR Doc. 05-23565 Filed 12-1-05; 8:45 am]

BILLING CODE 3410-96-M